DEPARTMENT OF THE INTERIOR

Bureau of Reclamation

San Luis Drainage Feature Reevaluation, Alameda, Contra Costa, Fresno, Kern, Kings, Merced, San Joaquin, San Luis Obispo, and Stanislaus Counties, CA

AGENCY: Bureau of Reclamation, Interior.

ACTION: Notice of availability of the Final Environmental Impact Statement (EIS) for the San Luis Drainage Feature Reevaluation.

SUMMARY: Pursuant to the National Environmental Policy Act (NEPA) of 1969 (as amended), the Bureau of Reclamation has prepared a Final EIS for the San Luis Drainage Feature Reevaluation. Under section 1502.14(e) of the NEPA regulations, the Council for Environmental Quality requires identification of a preferred alternative in the Final EIS. To comply with this requirement and in accordance with the Federally-mandated Economic and Environmental Principles and Guidelines for Water and Related Land Resources Implementation Studies, Reclamation has identified the National Economic Development alternative, the In-Valley/Drainage-Impaired Area Land Retirement Alternative, as the preferred alternative.

DATES: Reclamation will not make a decision on the proposed action until at least 30 days after release of the Final EIS. After the 30-day waiting period, Reclamation will complete a Record of Decision (ROD). The ROD will state the action that will be implemented and will discuss all factors leading to the decision.

ADDRESSES: To obtain a compact disc or paper copy of the Final EIS, please e-mail Ms. Sammie Cervantes at scervantes@mp.usbr.gov or write Ms. Cervantes at Bureau of Reclamation, 2800 Cottage Way (MP-730), Sacramento, CA 95825. The Final EIS may be viewed online at http://www.usbr.gov/mp/sccao/sld/docs/index.html.

See the SUPPLEMENTARY INFORMATION section for locations where copies of the Final EIS are available.

FOR FURTHER INFORMATION CONTACT: Please contact Mr. Gerald Robbins at 916-978-5061, fax 916-978-5094, or e-mail: grobbins@mp.usbr.gov.

SUPPLEMENTARY INFORMATION:

Background

The proposed Federal action is to plan and construct a drainage system for the San Luis Unit. This proposed action would meet the needs of the San Luis Unit for drainage service, fulfill the requirements of a February 2000 Court Order issued in litigation concerning drainage in the San Luis Unit, and be completed under the authority of Public Law 86-488. The Final EIS evaluates seven Action Alternatives in addition to a No Action Alternative: In-Valley Disposal, In-Valley Groundwater Quality Land Retirement, In-Valley Water Needs Land Retirement, In-Valley Drainage Impaired Area Land Retirement, Ocean Disposal, Delta-Chipps Island Disposal, and Delta Carquinez Strait Disposal. All of the alternatives would include common elements: on-farm and in-district actions, drainwater collection systems, regional reuse facilities, the Firebaugh sumps, and land retirement of at least 44,106 acres. In addition to the common elements, the action alternatives (except the Ocean Disposal) involve varying levels of drainwater treatment (by reverse osmosis, and/or biological selenium treatment) and/or additional land retirement. The resources evaluated in the Final include: surface water resources, groundwater resources, biological resources, selenium bioaccumulation, geology and seismicity, energy resources, air resources, agricultural production and economics, land use and soil resources, recreational resources, cultural resources, aesthetics, regional economics, and social issues and environmental justice. Reclamation determined that the action alternatives were unlikely to affect traffic and transportation, noise, utilities and public services, and Indian Trust Assets.

Copies of the Final EIS are available for review and inspection at the following public libraries:

• Bureau of Reclamation, Denver Office Library, Building 67, Room 167, Denver Federal Center, 6th and Kipling, Denver, CO 80225; telephone 303-445-2072;

• Bureau of Reclamation, Mid-Pacific Regional Library, 2800 Cottage Way, Sacramento, CA 95825; telephone 916-978-5593;

• Natural Resources Library, U.S. Department of the Interior, 1849 C Street, NW., Main Interior Building, Washington, DC 20240-0001;

• Alameda County Public Library, 2450 Stevenson Boulevard, Fremont, CA 94538; telephone 510-745-1400;

• Contra Costa County Library, 1750 Oak Park Boulevard, Pleasant Hill, CA 94523; telephone 925-646-6434;

• Fresno County Public Library, 2420 Mariposa Street, Fresno, CA 93721; telephone 559-488-3195;

• Kern County Public Library, 701 Truxton Avenue, Bakersfield, CA 93301; telephone 661-868-0701;

• Kings County Public Library, 401 North Douty Street, Hanford, CA 93230; telephone 559-582-0261;

• Merced County Public Library, 1312 South 7th Street, Los Banos, CA 95334; telephone 209-826-5254;

• San Joaquin County Public Library, 605 North El Dorado Street, Stockton, CA 95334; telephone 209-937-8221;

• San Luis Obispo County Public Library Bookmobile, PO Box 8107, San Luis Obispo, CA 93403; telephone for Bookmobile schedule/location 805-788-2145;

• Stanislaus County Public Library, 1500 I Street, Modesto, CA 95354; telephone 209-558-7800;

• UC Berkeley Water Resources Center Archives, 410 O'Brien Hall, Berkeley, CA 94720; telephone 510-642-2666.

Additional Information

Additional information is available online at http://www.usbr.gov/mp/sccao/sld/index.html. A Notice of Availability of the Draft EIS was published in the Federal Register on June 2, 2005 (70 FR 32370). The Final EIS contains responses to all comments received and reflects comments and any additional information received during the review period.

Reclamation's practice is to make any communication related to proposed projects, including names and home addresses, available for public review. Individual respondents may request that we withhold their home address from public disclosure, which will be honored to the extent allowable by law. There may be circumstances in which a respondent's identity may also be withheld from public disclosure, as allowable by law. If you wish to have your name and/or address withheld, you must state this prominently at the beginning of your communication. All submissions from organizations or businesses, and from individuals identifying themselves as representatives or officials of organizations or businesses, will be made available for public disclosure in their entirety.

Susan L. Ramos,
Assistant Regional Director, Mid-Pacific Region.

[FR Doc. E6-9184 Filed 6-12-06; 8:45 am]

BILLING CODE 4310-MN-P